DEPARTMENT OF HEALTH AND HUMAN SERVICES

Health Resources and Services Administration

Agency Information Collection Activities: Proposed Collection: Public Comment Request Information Collection Request Title: Nurse Anesthetist Traineeship Program Specific Data Forms, OMB No. 0915-0374—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than September 3, 2019.

ADDRESSES: Submit your comments to paperwork@hrsa.gov or mail the HRSA Information Collection Clearance Officer, Room 14N136B, 5600 Fishers Lane, Rockville, Maryland 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the ICR title for reference.

Information Collection Request Title: Nurse Anesthetist Traineeship (NAT) Program Specific Data Forms (Application), OMB Number 0915-0374—Revision.

Abstract: HRSA provides advanced education nursing training grants to educational institutions to increase the numbers of Nurse Anesthetists through the NAT Program. NAT Program is authorized by Section 811 of the Public Health Service (PHS) Act (42 U.S.C. 296j). The NAT Tables request information on program participants such as the total number of enrollees, number of enrollees/trainees supported, total number of graduates, number of graduates supported, projected data on the number of enrollees/trainees, and the distribution of Nurse Anesthetists who practice in underserved, rural, or public health practice settings.

Need and Proposed Use of the Information: Funds appropriated for the NAT Program are distributed among eligible institutions based on a formula, as permitted by PHS Act section 806(e)(1). HRSA uses the data from the NAT Tables to: (1) Determine whether funding preferences or special considerations are met; (2) calculate award amounts; ensure compliance with programmatic and grant requirements; and (3) provide information to the public and Congress. NAT Tables currently collect one year of data, which allows HRSA to calculate award amounts for a single-year project period. For fiscal year 2020, HRSA is revising the forms that previously collected one year of data on prospective students to capture three years of data, thereby allowing HRSA to calculate award amounts for a multi-year project period. Table 1 will add an option to add year 2 and year 3 data for the number of prospective students. Table 2 will not be changed.

Likely Respondents: Respondents will be applicants to HRSA's NAT program.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Table 1—NAT: Enrollment, Traineeship Support, Graduate, Graduates Supported and Projected Data | 100 | 1 | 100 | 3.5 | 350
Table 2—NAT: Graduate Data—Rural, Underserved, or Public Health | 100 | 1 | 100 | 2.8 | 280
Total | * 100 |  | 100 |  | 630
* The same respondents are completing Tables 1 and Table 2.

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Division of the Executive Secretariat.

[FR Doc. 2019-14321 Filed 7-3-19; 8:45 am]

BILLING CODE 4165-15-P